DEPARTMENT OF TRANSPORTATION

Office of the Secretary

Aviation Proceedings, Agreements Filed During the Week Ending July 19, 2002

The following Agreements were filed with the Department of Transportation under the provisions of 49 U.S.C. Sections 412 and 414. Answers may be filed within 21 days after the filing of the application.

Docket Number: OST-2002-12830.

Date Filed: July 15, 2002.

Parties: Members of the International Air Transport Association.

Subject: PTC12 USA-EUR 0141 dated 16 July 2002, Mail Vote 225—Resolution 010x r1-r4, TC12 USA-Europe (except Austria, Czech Republic, France, Germany, Iceland, Italy, Netherlands, Scandinavia), Special Passenger Amending Resolution from Spain to USA, Intended effective date: 1 November 2002/1 March 2003.

Docket Number: OST-2002-12861.

Date Filed: July 17, 2002.

Parties: Members of the International Air Transport Association.

Subject: PTC2 EUR-ME 0141 dated 12 July 2002, TC2 Europe-Middle East Expedited Resolution 002pp r1, PTC2 EUR-ME 0142 dated 12 July 2002, TC2 Europe-Middle East Expedited Resolution 002qq r2, PTC2 EUR-ME 0143 dated 12 July 2002, TC2 Europe-Middle East Expedited Resolutions 002y, 015v r3-r4, Intended effective date: 1 September 2002/1 October 2002/1 November 2002.

Docket Number: OST-2002-12874.

Date Filed: July 18, 2002.

Parties: Members of the International Air Transport Association.

Subject: PTC12 CAN-EUR 0083 dated 28 June 2002, TC12 Canada-Europe, Resolutions r1-r21, Minutes—PTC12 CAN-EUR 0084 dated 16 July 2002, Tables—PTC12 CAN-EUR Fares 0028 dated 5 July 2002, PTC12 CAN-EUR Fares 0029 dated 9 July 2002, Intended effective date: 1 November 2002.

Dorothy Y. Beard,
Federal Register Liaison.

[FR Doc. 02-20251 Filed 8-8-02; 8:45 am]

BILLING CODE 4910-62-P